DEPARTMENT OF EDUCATION

Office of Elementary and Secondary Education; Notice of Request for Public Comment on the Department of Education's Initial Plans for Implementing a Consolidated State Application and a Consolidated Annual Report Under the Reauthorized Elementary and Secondary Education Act

SUMMARY: We invite the public to submit comments on the Department's initial plans under the Elementary and Secondary Education Act, as amended by the No Child Left Behind Act of 2001, for providing formula program grant funding to States on the basis of consolidated applications. Public comments will help the Department develop proposed criteria for submission of consolidated State applications and identify the information to be collected in the annual performance report that is required of each State. The Department expects to publish in February, for public review and comment, a separate notice in the Federal Register proposing criteria and procedures to govern the consolidated State application and annual State report.

DATES: Please send your comments on or before January 14, 2002.

ADDRESSES: Please address your comments to Marcia Kingman, Office of Elementary and Secondary Education, U.S. Department of Education, using one of the following methods:

1. Internet. We encourage you to send your comments through the Internet to the following address: marcia.kingman@ed.gov. You should use the term “ESEA Consolidated Plan” in the subject line of your electronic message.

2. Fax Machine. You also may submit your comments by fax machine at (202) 205-5870.

3. Surface Mail. Alternatively, you may submit your comments via surface mail addressed to: Marcia Kingman, Office of Elementary and Secondary Education, U.S. Department of Education, 400 Maryland Avenue, SW, Room 3E213, Washington, DC 20202.

FOR FURTHER INFORMATION CONTACT: Marcia Kingman, Office of Elementary and Secondary Education, U.S. Department of Education, 400 Maryland Avenue, SW, Room 3E213, Washington, DC 20202. Telephone: (202) 260-2199.

Individuals with disabilities may obtain this document in an alternative format (e.g., Braille, large print, audiotape, or computer diskette) on request to the contact person for information identified in the preceding paragraph.

SUPPLEMENTARY INFORMATION: In mid-December of 2001, the Congress gave final approval to H.R. 1, the No Child Left Behind Act. This bill, which now awaits the President's signature, will substantially revise the Elementary and Secondary Education Act of 1965 (ESEA), offering all of America's school children the opportunity and means to achieve academic success. In particular, the bill embodies the four key measures of the President's education reform plan: (1) Stronger accountability for results, (2) expanded flexibility and local control, (3) expanded options for parents, and (4) an emphasis on teaching methods that have been proven to work, particularly in reading instruction.

These measures are designed to produce fundamental reforms in classrooms throughout America. They will provide officials and administrators at the school, school district, and State levels substantial flexibility to plan and implement school programs that will help close the achievement gap between disadvantaged and minority students and their peers. At the same time, the new law will hold school officials accountable—to parents, students, and the public—for achieving results. These and other major changes to the ESEA through the No Child Left Behind Act will redefine the federal role in K-12 education to better focus on improving the academic performance of all American students. The full text of this pending law, and the House-Senate conference report summary of the final bill, may be found on the Internet at: http://edworkforce.house.gov/issues/107th/education/nclb/nclb.htm.

One key way that the Department provides flexibility for States and school districts to design their own approaches for improving the academic performance of all students is by encouraging the careful development and use of consolidated plans or applications. Use of consolidated plans or applications also will help accomplish the President's goal of reducing unnecessary and burdensome paperwork and focus planning and reporting on student achievement.

Sections 9301 and 9302 of the new law, like the predecessor provisions in sections 14301 and 14302 of the ESEA, as amended in 1994 by the Improving America's Schools Act (IASA), will offer States the option of seeking funding under most ESEA formula grant programs through these consolidated plans or applications instead of through individual program plans or applications that the law otherwise would require. As expressed in the forthcoming law, a consolidated plan or application would be designed “to improve teaching and learning by encouraging greater cross-program coordination, planning, and service delivery, to provide greater flexibility to State and local authorities, and to enhance integration of [the ESEA] programs * * * with State and local programs” (section 9301). States would submit not the information required for individual ESEA program plans or applications, but rather “only descriptions, information, assurances, * * * and other materials that are absolutely necessary for the consideration of the consolidated State plan or consolidated State application” (section 9302(b)(3)). Hence, the Department will be able to provide funding to States under many ESEA formula grant programs on the basis of this single plan or application.

In addition, section 9305 of the ESEA will extend similar flexibility to local educational agencies (LEAs), continuing the authority for LEAs to receive program funding through submission of consolidated local plans or applications under individual programs that the statute would otherwise require. It also clarifies existing law to ensure that State educational agencies (SEAs) do not require local education agencies (LEAs) to submit individual program plans or applications if they wish to submit a consolidated application.

Programs that may be included in a consolidated plan or application. Sections 9101(13) and 9302(a)(1) of the ESEA, as amended by the forthcoming No Child Left Behind Act, identify the programs that a State would be able to include in a consolidated plan or application. These programs are each of those authorized by—

Title I, Part A: Improving Basic Programs Operated by Local Educational Agencies.

Title I, Part B, subpart 3: William J. Goodling Even Start Family Literacy Programs.

Title I, Part C: Education of Migrant Children.

Title I, Part D: Prevention and Intervention Programs for Children and Youth Who Are Neglected, Delinquent, or At-Risk.

Title I, Part F: Comprehensive School Reform.

Title II, Part A: Teacher and Principal Training and Recruiting Fund.

Title II, Part D: Enhancing Education Through Technology.

Title III, Part A: English Language Acquisition, Language Enhancement and Academic Achievement.

Title IV, Part A: Safe and Drug-Free Schools and Communities.

Title IV, Part B: 21st Century Community Learning Centers.

Title V, Part A: Innovative Programs.

Title VI, Part B, subpart 2: Rural and Low-Income School Program.

Other programs the Secretary may designate. Each State would be free either to submit a consolidated plan or application that includes any or all of these programs, or to submit a separate program plan or application for each of the programs the ESEA would otherwise require.

The Department's Experience With Consolidated State Plans

1. Criteria for consolidated State plans. After the 1994 reauthorization of the ESEA, the Department developed criteria for consolidated State plans that sought to align consolidated planning of the ESEA programs included in the States' plans with comprehensive school reform efforts that States were already undertaking on their own. Therefore, the criteria for the consolidated State plans that States have provided to the Department since 1994 stressed a comprehensive description of the State's—

• Goals and objectives for achievement of all students, including the content of the State's standards and assessments system under Title I, part A of the ESEA, and performance indicators, benchmarks, and timelines it had established for meeting these goals and objectives;

• Strategies, activities, and uses of resources under which the ESEA programs the State included in its consolidated plan would help to achieve State goals and objectives, including those related to such key components as Title I, part A schoolwide programs, professional development, safe and drug-free schools, and consolidated local planning;

• Process for ensuring that the consolidated State plan would continue to be revised, as necessary, to reflect changing circumstances and continuous improvement; and

• Process for promoting and maintaining public involvement in reviewing how well the plan was being implemented.

States also provided a limited amount of fiscal information that the Department needed to review before distributing ESEA program funding to ensure program accountability. All but one State now receive ESEA State formula grant program funding on the basis of these consolidated plans.

In the guidance it issued on preparation of these consolidated State plans, the Department informed States that its approval of those plans eliminated the need, for programs included in the plan, to develop separate program planning documents that the individual program statutes otherwise required. However, the Department also stressed that its approval of the consolidated State plans did not relieve States of their responsibility to adhere to all of the operational requirements that these statutes imposed, whether or not the statutes included them as required elements of individual program plans or applications.

2. Consolidated performance reports. In 1998, the Department distributed an initial consolidated performance reporting instrument that States began using to report annually on the performance of all programs included in their consolidated plans. This reporting instrument (and its subsequent revision) replaced the various individual program performance reports that States had previously sent at differing times to the Department. States report in a single document information in a number of areas, in particular (a) student achievement gains (principally for Title I, part A), (b) how LEAs carried out individual programs, including participation data, and (c) how well States and LEAs met performance measures for these programs that the Department had established in accordance with requirements of the Government Performance and Results Act (GPRA).

The Department's Working Model for Consolidated Applications Under the ESEA, As Amended by the No Child Left Behind Act

1. An overview. Consistent with the pending No Child Left Behind Act, the Department is developing proposed consolidated application and reporting procedures that States would integrate into a comprehensive State accountability system. Information States would submit in their consolidated applications would be integral to both overall State accountability and to the Department's ability to meet its basic administrative responsibilities.

We refer to the documents as “consolidated applications” rather than as “consolidated plans” to emphasize that this information would not constitute an educational or programmatic “plan” or “set of strategies.” By this we mean that the Department has no intention of reviewing (or approving) a State's plans for achieving program-by-program goals for academic achievement of all students and most other objectives and requirements of the individual ESEA programs. Instead the Department will review a consolidated application that contains the State's overall and individual programmatic goals and objectives that relate to improved student achievement, and its descriptions of the overall State system for measuring progress in achieving them. A State would be responsible to its own students and parents—but not to the Department—for putting in place effective strategies for meeting those goals and objectives.

Hence, the criteria for consolidated State applications would be designed to reflect a focus on the data that States will use to demonstrate results, in particular, improved student achievement levels of all students and narrowing of “achievement gaps.” In the consolidated annual reports, States would provide data on their success in achieving these results. Moreover, in order to reduce burden and enable the collection of more up-to-date information, the Department will be working to make this reporting system “web-based” so that information might be supplied electronically rather than in paper form.

2. Proposed key components of the new consolidated State application. More specifically, the consolidated State application would address—

• The State's definition of adequate yearly progress under section 1111(b)(2) of the ESEA, as amended by the No Child Left Behind Act, and its timeline to ensure that all students are proficient not later that 12 school years after the end of the 2001-2002 school year as the new law will require, as it applies to both public elementary and secondary school students as a whole and the required subgroups: economically disadvantaged students, students from major racial and ethnic groups, disabled students, and limited English proficient students.

• The State's key objectives for each of the Federal programs included in the consolidated application and the populations those programs serve, as those objectives support increased achievement of all students (e.g., its goals for increasing migrant-student high school completion rates, goals for reducing school violence, and goals for increasing the number of highly qualified teachers);

• So that progress can be tracked through the State's annual reports, (1) baseline data for the 2001-2002 school year for the indicators on which States would provide information in their annual reports under section 1111(h)(4), and (2) other baseline data relative to key objectives for each of the Federal programs included in the consolidated application and the populations those program serve, as those objectives support increased student achievement.

• The principal approaches the State would use, with federal and non-federal funds, to achieve adequate yearly progress for all students and the key objectives for each of the included ESEA programs and the populations they assist;

• The assessment and accountability systems the State would use for measuring whether it is successful in meeting (1) its adequate yearly progress goals for all students under sections 1111(b)(3) and (b)(2), respectively, and (2) the State's key objectives for each of the included ESEA programs; and

• Key information on specific ESEA programs that the Department needs to review in order to ensure programmatic or fiscal integrity.

3. Other considerations.

a. The No Child Left Behind Act of 2001 will make significant changes to the ESEA that are designed to give school officials, educators, and parents the tools they need to ensure that all students can achieve. However, this Act also will build upon school reform strategies that were begun under the previous statute and other federal and State initiatives. In this regard, provided that State plans are consistent with Department requirements, States would be able to draw upon information and data that they developed under the previous statute.

b. To gauge the success of the Nation in implementing the new Act, it is important that where possible States report their assessment data using common formats and measures. Therefore, the Department intends to work with States to determine how their data management systems may align.

c. Only a limited amount of program-specific information would be included in a consolidated State application. Yet, even if not addressed in the consolidated application, all operational and program-planning requirements of each program (as amended by the No Child Left Behind Act) included in a consolidated application are extremely important and need to be met. Many ESEA program statutes establish some of these operational and planning requirements in provisions that govern the content of individual program plans or applications. States would need to adhere to all of those requirements (as well as to those that appear elsewhere in the individual program statutes), and to maintain for public inspection documentation that confirms they have been met. (In order to help promote public dialogue on how States can most effectively implement the federal programs included in their consolidated applications, the Department also would encourage States to post on their Internet sites information on how they propose to meet key requirements of each program.)

Specific questions on which the Department seeks comment. Consolidated State applications can provide the Department with important information on how the State intends federal programs included in the application to promote increased achievement of all students. However, the principal importance of these consolidated applications (and reports) is their ability to communicate to the public, policy-makers, and others in each State the basis on which the State officials responsible for implementing the new law propose to hold themselves accountable for ensuring that no child is left behind.

It is in both of these contexts that we are interested in receiving public comment and reaction to all aspects of this proposal. However, in formulating your comments we ask that you pay particular attention to the following questions:

1. Goals, objectives, and baseline data. What kinds of State goals and objectives—in addition to the adequate yearly progress standards set forth in Title I, part A—might States adopt for measuring the success of programs included in the consolidated application? What baseline data might States use to measure success in meeting these key goals and objectives? How might States measure their success in implementing each program included in the consolidated application?

2. Phase-in process. The Department will need to distribute FY 2002 funds to States this coming July. States will have insufficient time by then to prepare high-quality consolidated applications that would reflect all of the desired information. Consequently, the Department would establish initial procedures and criteria under which States choosing to submit consolidated applications will be able to receive FY 2002 funds in a timely manner. However, given the requirements of the pending No Child Left Behind Act, and the urgency with which all of us will be working to implement it, the Department would want all States to have submitted complete consolidated State applications by a specific deadline, no later than the beginning of the 2003-04 school year. States plainly will need to be able to submit this information to the Department in two or more phases that reflect the differing amounts of time that will be needed to prepare the different parts of their applications.

What might this phase-in process look like? Consistent with the exigencies and program-specific schedules underpinning the No Child Left Behind Act, how much time would States need to provide the different information that would be included in the complete consolidated State application? What information should States be expected to provide in each phase? In addition, while the Department would insist that each State submit all of the information to be included in its consolidated application by the end of the 2003-2004 school year, some States may be able to submit their information earlier than others. Should the Department have States submit their information on different schedules that depend on when they have their data available?

3. Individual program requirements. Without undermining the important purposes of consolidated State applications, how can the Department do a better job of helping to ensure State, school district, and school adherence to the requirements of the individual programs that those consolidated applications include?

4. Consolidated performance reporting. Consolidated performance reporting for school years 2000-01 and 2001-02 will be conducted through the Office of Management and Budget-approved reporting form the Department prepared under the previous law. Are there elements of this report that the Department should retain for reporting under the No Child Left Behind Act? Which ones?

5. Flexibility initiatives under the new law. What implications do the No Child Left Behind Act's flexibility initiatives have for the consolidated State application and annual reporting effort? These initiatives include:

• Transferability of program funds, allowing any SEA to transfer 50 percent of its State-level funds under certain programs to State-level activities under other programs or under Title I, and LEAs to transfer 50 percent of their funds among programs or into Title I (Title VI, Part A, Subpart 2);

• The Rural Education Achievement Program (REAP), which allows small rural LEAs to consolidate certain federal program funds (Part B of Title VI);

• The Secretary's waiver authority (Title IX, Part D), and waiver decisions available to States under the Ed-Flex Partnership Demonstration Act of 1999 (Ed-Flex);

• The State Flexibility Program (state-flex), which allows SEAs to use certain federal funds for any ESEA purpose, direct the use of funds provided under Title V, Part A (formerly Title VI of the ESEA), and enter into local performance agreements with ten LEAs in each State (Title VI, Part A, Subpart 3, Chapter A); and

• Local flexibility authority, under which up to 80 additional LEAs will receive broad authority to consolidate funds (Title VI, Part A, Subpart 3, Chapter B).

6. Other considerations. Are there criteria and procedures for consolidated State applications (or plans) that, consistent with the requirements of sections 9301 and 9302 of the new Act, would better promote accountability for increased academic achievement of all students and other objectives of the No Child Left Behind Act? What are they? How should they be reflected in the procedures and content for consolidated State applications or plans that the Department establishes?

Electronic Access to This Document

You may view this document, in Text or Adobe Portable Document Format (PDF) on the Internet at the following site: http://www.ed.gov/legislation/FedRegister.

To use the PDF you must have Adobe Acrobat Reader, which is available free at this site. If you have questions about using PDF, call the U.S. Government Printing Office toll free at 1-888-293-6498; or in the Washington, DC area at (202) 512-1530.

Note: The official version of this document is the document published in the Federal Register. Free Internet access to the official edition of the Federal Register and the Code of Federal Regulations is available on GPO access at: http://www.access.gpo.gov/nara/index.html

Dated: December 28, 2001.
Susan B. Neuman,
Assistant Secretary for Elementary and Secondary Education.

[FR Doc. 02-155 Filed 1-3-02; 8:45 am]

BILLING CODE 4000-01-P